DEPARTMENT OF ENERGY

Federal Energy Regulatory Commission

[Docket No. RP16-299-000]

Tuscarora Gas Transmission Company; Notice of Initiation of Section 5 Proceeding

On January 21, 2016, the Commission issued an order in Docket No. RP16-299-000, pursuant to section 5 of the Natural Gas Act, 15 U.S.C. 717d (2012), instituting an investigation into the justness and reasonableness of Tuscarora Gas Transmission Company (Tuscarora) currently effective tariff rates. The Commission's order directs Tuscarora to file a full cost and revenue study within 75 days of the issuance of the order. Tuscarora Gas Transmission Company, 154 FERC ¶61,030 (2016).

Dated: January 21, 2016.
Nathaniel J. Davis, Sr.,
Deputy Secretary.

[FR Doc. 2016-01795 Filed 2-1-16; 8:45 am]

BILLING CODE 6717-01-P